DEPARTMENT OF ENERGY

Federal Energy Regulatory Commission

[Docket No. RP00-560-000]

Questar Pipeline Company; Notice of Tariff Filing

September 26, 2000.

Take notice that on September 22, 2000, Questar Pipeline Company (Questar) tendered for filing as part of its FERC Gas Tariff, the following sheets, with an effective date of October 1, 2000:

First Revised Volume No. 1

Seventeenth Revised Sheet No. 5

Original Volume No. 3

Twenty-Sixth Revised Sheet No. 8

Questar states that the filing is being made to reduce its Fuel Gas Reimbursement Percentage (FGRP) effective October 1, 2000. Questar has requested waiver of its Fuel Gas Reimbursement and Tracking provision (Section 12.14) to the General Terms and Conditions of Part 1 of its FERC Gas Tariff and 18 CFR 154.403 to revise its FGRP outside the normal filing schedule. The proposed tariff sheets reflect a revised FGRP of 1.4 percent, replacing the currently effective 2.1 percent.

Questar states that a copy of this filing has been served upon Questar's customers, the Public Service Commission of Utah and the Public Service Commission of Wyoming.

Any person desiring to be heard or to protest said filing should file a motion to intervene or a protest with the Federal Energy Regulatory Commission, 888 First Street, NE., Washington, DC 20426, in accordance with Sections 385.214 of 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25122 Filed 9-29-00; 8:45 am]

BILLING CODE 6717-01-M